DEPARTMENT OF COMMERCE

National Institute of Standards and Technology

[Docket No.: 010323078-1141-02]

RIN 0693-ZA44

Critical Infrastructure Protection Grants Program

AGENCY: National Institute of Standards and Technology, Commerce.

ACTION: Notice.

SUMMARY: On Friday, April 13, 2001, the National institute of Standards and Technology (NIST) announced in the Federal Register the availability of fiscal year 2001 funds for the Critical Infrastructure Protection Grants Program (CIPGP). The purpose of this notice is to inform the public that if additional funding is received by NIST for this program in fiscal year 2002, NIST may make additional awards to proposals evaluated under the fiscal year 2001 competition.

FOR FURTHER INFORMATION CONTACT: Donald G. Marks; National Institute of Standards and Technology; 100 Bureau Drive, Stop 8901; NIST North, Room 622; Gaithersburg, MD 20899-8901; Tel: (301) 975-3660; E-Mail: CIP@nist.gov.

Additional information will be available on the website, http://csrc.nist.gov/grants. Questions regarding administrative matters such as payments or required forms should be directed to the NIST Grants Office at (301) 975-5718.

SUPPLEMENTARY INFORMATION: On April 13, 2001, NIST published a document in the Federal Register announcing the availability of fiscal year 2001 funds for the Critical Infrastructure Protection Grants Program (CIPGP) (66 FR 19139). Should NIST receive additional funding for the CIPGP in fiscal year 2002, NIST may use that funding for making additional awards to proposals evaluated under the fiscal year 2001 competition. All information and requirements as published in the April 13, 2001 Notice will remain in effect.

Dated: June 1, 2001.
Karen H. Brown,
Deputy Director.

[FR Doc. 01-14444 Filed 6-7-01; 8:45 am]

BILLING CODE 3510-13-M